INTERNATIONAL TRADE COMMISSION

[Investigation Nos. 731-TA-624-625 (Fifth Review)]

Helical Spring Lock Washers From China and Taiwan; Termination of Five-Year Reviews

AGENCY: United States International Trade Commission.

ACTION: Notice.

SUMMARY: The Commission instituted the subject five-year reviews on April 1, 2022 (87 FR 19134) to determine whether revocation of the antidumping duty orders on helical spring lock washers from China and Taiwan would be likely to lead to continuation or recurrence of material injury. On June 13, 2022, the Department of Commerce published notice that it was revoking the orders effective May 26, 2022, because no domestic interested party responded to the sunset review notice of initiation by the application deadline (87 FR 35733). Accordingly, the subject reviews are terminated.

DATES: May 26, 2022 (effective date of revocation of the orders).

FOR FURTHER INFORMATION CONTACT: Peter Stebbins (202-205-2039), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to § 207.69 of the Commission's rules (19 CFR 207.69).

By order of the Commission.
Issued: June 29, 2022.
Katherine Hiner,
Acting Secretary to the Commission.

[FR Doc. 2022-14265 Filed 7-1-22; 8:45 am]

BILLING CODE 7020-02-P